DEPARTMENT OF COMMERCE

International Trade Administration

Foreign Trade Zone Application; Proposed Collection; Comment Request

SUMMARY: The Department of Commerce, as part of its continuing effort to reduce paperwork and respondent burdens, invites the general public and other Federal agencies to take this opportunity to comment on the continuing information collections, as required by the Paperwork Reduction Act of 1995, Public Law 104-13 (44 U.S.C. 3506(c)(2)(A)).

DATES: Written comments must be submitted on or before June 12, 2001.

ADDRESSES: Direct all written comments to Madeleine Clayton, Departmental Paperwork Clearance Officer, (202) 482-3129, Email Mclayton@doc.gov., Department of Commerce, Room 6086, 14th & Constitution Avenue, NW, Washington, DC 20230.

FOR FURTHER INFORMATION CONTACT: Request for additional information or copies of the information collection instructions should be directed to: Andrew McGilvray, Foreign Trade Zones Staff, Room 4008, 14th & Constitution Avenue, NW, Washington, DC 20230; Phone number: (202) 482-2862, and fax number: (202) 482-0002. The FTZ Application Guidelines, as well as the Regulations, are available on-line at http://ia.ita.doc.gov/ftzpage.

SUPPLEMENTARY INFORMATION:

I. Abstract

The Foreign Trade Zones Application is the vehicle by which individual firms or organizations apply for foreign-trade zone (FTZ) status, for subzone status, or for expansion of an existing zone. The FTZ Act and Regulations require that an application with a description of the proposed project be made to the FTZ Board (19 U.S.C. 81b and 81f; 15 CFR 400.24-26) before a license can be issued or a zone can be expanded. The Act and Regulations require that applications contain detailed information on facilities, financing, operational plans, proposed manufacturing operations, need, and economic impact. Manufacturing activity in zones, which is primarily conducted in subzones, can involve issues related to domestic industry and trade policy impact. Such applications must include specific information on the Customs-tariff related savings that result from zone procedures and the economic consequences of permitting such savings. The FTZ Board needs complete and accurate information on the proposed operation and its economic effects because the Act and Regulations authorize the Board to restrict or prohibit operations that are detrimental to the public interest.

II. Method of Collection

U.S. firms or organizations submit applications to the Foreign-Trade Zones Board.

III. Data

OMB Number: 0625-0139.

Form Number: N/A.

Type of Review: Regular Submission.

Affected Public: State, local, or tribal governments or not-for-profit institutions applying for foreign trade zone status, for subzone status, or for modification of existing status.

Estimated Number of Respondents: 100.

Estimated Time Per Response: 20 to 120 hours (depending on type of application).

Estimated Total Annual Burden Hours: 9,314 hours.

Estimated Total Annual Costs: The estimated annual cost for this collection is $1,043,690.00 ($328,670.00 for respondents and $715,020.00 for federal government).

IV. Request for Comments

Comments are invited on (a) whether the proposed collection of information is necessary for the proper performance of the functions of the agency, including whether the information shall have practical utility; (b) the accuracy of the agency's estimate of the burden (including hours and costs) of the proposed collection of information; (c) ways to enhance the quality, utility, and clarity of the information to be collected; and (d) ways to minimize the burden of the collection of information on respondents, including through the use of automated collection techniques or forms of information technology.

Comments submitted in response to this notice will be summarized and/or included in the request for OMB approval of this information collection; they also will become a matter of public record.

Dated: April 10, 2001.
Madeleine Clayton,
Departmental Paperwork Clearance Officer, Office of the Chief Information Officer.

[FR Doc. 01-9189 Filed 4-12-01; 8:45 am]

BILLING CODE 3510-DS-P